DEPARTMENT OF THE INTERIOR

National Park Service

Denali National Park and Preserve, Alaska; Final South Denali Implementation Plan and Environmental Impact Statement

AGENCY: National Park Service, Interior.

ACTION: Notice of Availability of the Final South Denali Implementation Plan and Environmental Impact Statement.

SUMMARY: The National Park Service (NPS) announces the availability of the Final South Denali Implementation Plan and Environmental Impact Statement (EIS) for Denali National Park & Preserve. The document describes and analyzes the environmental impacts of a preferred alternative and one action alternative for providing increased access and recreational opportunities in the South Denali region. A no action alternative is also evaluated.

DATES: A Record of Decision will be made no sooner than 30 days after the date the Environmental Protection Agency's Notice of Availability for the final EIS appears in the Federal Register.

ADDRESSES: The final plan and EIS may be viewed online at http://www.southdenaliplanning.com or http://parkplanning.nps.gov. Hard copies or CDs of the Final South Denali Implementation Plan and EIS are available on request from the address below.

FOR FURTHER INFORMATION CONTACT: Mike Tranel, Chief of Planning, Denali National park and Preserve, 240 West 5th Avenue, Anchorage, Alaska 99501. Telephone: (907) 644-3611.

SUPPLEMENTARY INFORMATION: Pursuant to section 102(2)(c) of the National Environmental Policy Act of 1969 (Pub. L. 91-190, as amended), the NPS, in cooperation with the State of Alaska and Matanuska-Susitna Borough, has prepared a final EIS that considers three alternatives for providing increased access and recreational opportunities in the South Denali region. The purpose of the plan and EIS is to address the needs of a growing visitor population in the south Denali region for the next two decades. The south Denali region is defined to include the southern portions of Denali National Park and Preserve, Denali State Park in its entirety, and adjoining lands owned and managed by the State of Alaska and the Matanuska-Sustina Borough. The implementation plan and EIS was initiated to address the rapidly growing level of visitation, resource management concerns, and anticipated demand for future uses of public lands in the south Denali region.

The final plan and EIS includes a range of alternatives based on planning objective's environmental resources, and public input. Each alternative represents a development concept that addresses the needs and concerns of the land managers, local communities, and visitors. The three alternatives evaluated in this EIS include two action alternatives and a no-action alternative.

Alternative A (No Action): Under Alternative A, no new actions would be implemented to support the 1997 Record of Decision for the South Side Denali Development Concept Plan except for those projects already approved and initiated. This alternative represents no change from current management direction and therefore represents the existing condition in the South Denali region. However, it does not ensure a similar future condition, which could be affected by factors unrelated to this planning effort.

Alternative B (Peters Hills Alternative): Under this alternative a new nature center would be constructed on approximately 2.5 acres in the Peters Hills inside the southern boundary of Denali State Park. The total building requirement would be approximately 7,500 square feet. A paved parking area would be constructed near the junction of Petersville Road and the proposed access road (MP 28 of Petersville Road) to accommodate private vehicles. An access road approximately 7 miles in length would be constructed from MP 28 of Petersville Road to the nature center. Upgrading and widening Petersville Road between MP 9.3 and 28 is a connected action that would be necessary to implement this alternative. Approximately 31 miles of trails would be constructed in the vicinity of the new nature center.

Alternative C (Parks Highway, Preferred Alternative): Under this alternative a new visitor complex would be constructed on approximately 4.1 acres near Curry Ridge in Denali State Park. The total building requirement would be approximately 16,000 square feet. A paved parking area would be constructed on the natural bench across from the Denlia View South Wayside near Parks Highway MP 134.6. An access road approximately 3.5 miles in length would be constructed from the parking area to the visitor center. Approximately 13 miles of trails would be constructed in the vicinity of the new visitor center.

The Notice of Availability of the Draft South Denali Implementation Plan and EIS was published in the Federal Register on September 9, 2005. The 60-day public comment period ended on November 15, 2005. Five public hearings (Anchorage, Wasilla, upper Susitna Valley, Denali Park, and Fairbanks) were held in the fall of 2005. Comments were received from 72 agencies, organizations, and individuals. In response to public comment, the preferred alternative (Alternative C, Parks Highway) was modified to include additional land use controls along the Parks Highway and Petersville Road corridors, mitigation measures for alleviating conflicts between motorized and non-motorized use, and the addition of wildlife monitoring in Denali State Park.

The responsible official for a Record of Decision on the proposed action is the NPS Regional Director in Alaska.

Dated: April 20, 2006.
Marcia Blaszak,
Regional Director, Alaska.

[FR Doc. 06-5344 Filed 6-12-06; 8:45 am]

BILLING CODE 4310-BF-M